DEPARTMENT OF ENERGY

Federal Energy Regulatory Commission

Combined Notice of Filings

Take notice that the Commission has received the following Natural Gas Pipeline Rate and Refund Report filings:

Filings Instituting Proceedings

Docket Numbers: CP19-490-000.

Applicants: Gulf South Pipeline Company, LP.

Description: Joint Abbreviated Application for a Certificate of Public Convenience and Necessity, Abandonment Authorization and Related Authorizations of Gulf South Pipeline Company, LP, et al.

Filed Date: 7/16/19.

Accession Number: 20190716-5115.

Comments Due: 5 p.m. ET 8/6/19.

Docket Number: PR19-68-000.

Applicants: Minnesota Energy Resources Corporation.

Description: Tariff filing per 284.123(b),(e)+(g): MERC Rate Update to be effective 7/1/2019.

Filed Date: 7/16/19.

Accession Number: 201907165086.

Comments Due: 5 p.m. ET 8/6/19.

284.123(g) Protests Due: 5 p.m. ET 9/16/19.

Docket Numbers: RP18-556-003.

Applicants: Southern Natural Gas Company, L.L.C.

Description: Compliance filing Rate Case Settlement—2019 Implementation to be effective 9/1/2019.

Filed Date: 7/17/19.

Accession Number: 20190717-5017.

Comments Due: 5 p.m. ET 7/29/19.

Docket Numbers: RP19-1090-001.

Applicants: American Midstream (AlaTenn), LLC.

Description: Request for Extension of Time to Implement NAESB 3.1 Standards Per Order No. 587-Y of American Midstream (AlaTenn), LLC under RP19-1090.

Filed Date: 7/17/19.

Accession Number: 20190717-5062.

Comments Due: 5 p.m. ET 7/23/19.

Docket Numbers: RP19-1091-002.

Applicants: American Midstream (Midla), LLC.

Description: Request for Extension of Time to Implement NAESB 3.1 Standards Per Order No. 587-Y of American Midstream (Midla), LLC under RP19-1091.

Filed Date: 7/17/19.

Accession Number: 20190717-5064.

Comments Due: 5 p.m. ET 7/23/19.

Docket Numbers: RP19-1092-001.

Applicants: Destin Pipeline Company, L.L.C.

Description: Request for Extension of Time to Implement NAESB 3.1 Standards Per Order No. 587-Y of Destin Pipeline Company, L.L.C. under RP19-1092.

Filed Date: 7/17/19.

Accession Number: 20190717-5065.

Comments Due: 5 p.m. ET 7/23/19.

Docket Numbers: RP19-1093-001.

Applicants: High Point Gas Transmission, LLC.

Description: Request for Extension of Time to Implement NAESB 3.1 Standards Per Order No. 587-Y of High Point Gas Transmission, LLC under RP19-1093.

Filed Date: 7/17/19.

Accession Number: 20190717-5066.

Comments Due: 5 p.m. ET 7/23/19.

Docket Numbers: RP19-1094-001.

Applicants: Trans-Union Interstate Pipeline, L.P.

Description: Request for Extension of Time to Implement NAESB 3.1 Standards Per Order No. 587-Y of Trans-Union Interstate Pipeline, L.P. under RP19-1094.

Filed Date: 7/17/19.

Accession Number: 20190717-5068.

Comments Due: 5 p.m. ET 7/23/19.

Docket Numbers: RP19-1387-000.

Applicants: Texas Gas Transmission, LLC.

Description: § 4(d) Rate Filing: Create Enhanced Parking Service (Rate Schedule EPS) to be effective 8/19/2019.

Filed Date: 7/17/19.

Accession Number: 20190717-5006.

Comments Due: 5 p.m. ET 7/29/19.

Docket Numbers: RP19-1388-000.

Applicants: Texas Eastern Transmission, LP.

Description: § 4(d) Rate Filing: Negotiated Rates—BP Energy 910687 eff 11-1-19 to be effective 11/1/2019.

Filed Date: 7/17/19.

Accession Number: 20190717-5070.

Comments Due: 5 p.m. ET 7/29/19.

Docket Numbers: RP19-1389-000.

Applicants: Tennessee Gas Pipeline Company, L.L.C.

Description: § 4(d) Rate Filing: Pooling Area GT&C Tariff Changes to be effective 10/1/2019.

Filed Date: 7/17/19.

Accession Number: 20190717-5076.

Comments Due: 5 p.m. ET 7/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 18, 2019.
Nathaniel J. Davis, Sr.,
Deputy Secretary.

[FR Doc. 2019-15687 Filed 7-23-19; 8:45 am]

BILLING CODE 6717-01-P